FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843), and interested persons may express their views in writing on the standards enumerated in section 4. Unless otherwise noted, nonbanking activities will be conducted throughout the United States.

Comments regarding each of these applications must be received at the Reserve Bank indicated or the offices of the Board of Governors, Ann E. Misback, Secretary of the Board, 20th and Constitution Avenue NW, Washington, DC 20551-0001, not later than October 24, 2019.

A. Federal Reserve Bank of Chicago (Colette A. Fried, Assistant Vice President) 230 South LaSalle Street, Chicago, Illinois 60690-1414:

1. Central Bancshares, Inc., Muscatine, Iowa; to acquire the outstanding voting shares of Walcott Trust & Savings Bank, Walcott, Iowa, pursuant to section 3 of the Bank Holding Company Act. In connection with this application, Central Bancshares, Inc., has applied to acquire Hail, Inc., Walcott, Iowa, and thereby engage in the sale of insurance in a town of less than 5,000 in population pursuant to section 4 of the Bank Holding Company Act and 12 CFR 225.28(b)(11)(iii)(A).

Board of Governors of the Federal Reserve System, September 18, 2019.
Yao-Chin Chao,
Assistant Secretary of the Board.

[FR Doc. 2019-20564 Filed 9-23-19; 8:45 am]

BILLING CODE 6210-01-P